DEPARTMENT OF COMMERCE

United States-Mexico High Level Economic Dialogue

AGENCY: International Trade Administration, Commerce.

ACTION: Notice.

SUMMARY: This notice announces a request for public stakeholder input to the Federal Register notice on the United States-Mexico High Level Economic Dialogue.

DATES: The agency must receive comments on or before January 9, 2014.

ADDRESSES: Please direct written submissions to Departmental Paperwork Clearance Officer, Department of Commerce, Room 6616, 14th and Constitution Avenue NW, Washington, DC 20230. The public is strongly encouraged to file submissions electronically rather than by mail. Submit electronic comments to www.trade.gov/hled.

FOR FURTHER INFORMATION CONTACT: Kyle Wells, 202-482-1547.

SUPPLEMENTARY INFORMATION: Mexico represents a critical strategic ally and partner of the United States. Apart from being neighbors that share a 2,000-mile border, we also share deeply integrated economies that, in 2012, generated more than $500 billion in two-way trade. Mexico remains our second largest export market and third largest overall trading partner. The United States, in turn, is Mexico's largest trading partner. Together with Canada, Mexico and the United States are partners in the North American Free Trade Agreement, one of the most competitive and successful economic platforms in the world. The sustained competitiveness and continued growth of the North American region is dependent upon continued and deepened economic and commercial cooperation, regulatory consensus, and policy alignment.

To advance strategic economic and commercial priorities central to promoting mutual economic growth, job creation, and global competitiveness, President Barack Obama and President of Mexico Enrique Peña Nieto announced in May 2013 the formation of the U.S.-Mexico High Level Economic Dialogue (HLED). The HLED will meet annually at the Cabinet level and will bring together leaders from the public and private sectors to build upon and promote sustained progress on a range of existing successful bilateral dialogues and working groups. On September 20, 2013, Vice President Joseph Biden led a delegation of U.S. Cabinet officials that met in Mexico City with members of the Mexican Cabinet in the inaugural meeting of the HLED.

At the September meeting, government officials from Mexico and the United States approved an initial work plan with three broad pillars, which contain specific topics for cooperation:

I. Promoting Competitiveness and Connectivity

(1) Telecommunications; and (2) Transportation, including Intelligent Transportation Systems; Logistics Corridors and Freight Planning; Modernized and Expanded Bilateral Air Transport Relationship; Customs; and Border Master Plans.

II. Fostering Economic Growth, Productivity, Entrepreneurship, and Innovation

(1) Workforce Development; (2) Joint Investment Promotion; (3) Travel and Tourism; (4) Economic Development along the Border as well as a Comprehensive Economic Development Strategy; (5) Effective use of the North American Development Bank; (6) Partnership on Advanced Manufacturing; (7) Economic Empowerment of Women;(8) Entrepreneurship; (9) Food and Agricultural Trade; (10) Diaspora Engagement; (11) Remittances Dialogue; and (12) Regulatory Cooperation.

III. Partnering for Regional and Global Leadership

(1) Partnering to promote development in Central America; (2) Regional trade priorities; and (3) Transparency and anti-corruption.

The United States Government recognizes stakeholder input as instrumental in providing practical recommendations for shaping the direction of this dialogue, clarifying priorities, and assisting in possible pilot projects.

Please provide your comments on the three pillars listed above, as well as on the suggested topics for cooperation within each pillar, key areas where stakeholder insights can help contribute to the success of this crucial bilateral economic relationship. We welcome input on possible additional topics for the HLED to address, beyond the items listed above. We will ensure that stakeholders from the private sector and civil society can provide input into the HLED process on an ongoing basis.

Please provide your responses by January 9, 2014.

Your detailed comments will help the U.S. Government strengthen the work of the HLED and ensure that it remains relevant to the private sector and to civil society.

Walter Bastian,
Deputy Assistant Secretary for the Western Hemisphere, Global Markets, International Trade Administration, U.S. Department of Commerce.

[FR Doc. 2013-28006 Filed 11-22-13; 8:45 am]

BILLING CODE 3510-HE-P